NATIONAL ARCHIVES AND RECORDS ADMINISTRATION

Nixon Presidential Historical Materials; Opening of Materials

AGENCY: National Archives and Records Administration (NARA).

ACTION: Notice of opening of materials.

SUMMARY: This notice announces the opening of additional files from the Nixon Presidential historical materials. Notice is hereby given that, in accordance with section 104 of Title I of the Presidential Recordings and Materials Preservation Act (“PRMPA”, 44 U.S.C. 2111 note) and 1275.42(b) of the PRMPA Regulations implementing the Act (36 CFR Part 1275), NARA has identified, inventoried, and prepared for public access integral file segments among the Nixon Presidential historical materials.

DATES: NARA intends to make these materials described in this notice available to the public beginning April 27, 2000. In accordance with 36 CFR 1275.44, any person who believes it necessary to file a claim of legal right or privilege concerning access to these materials must notify the Archivist of the United States in writing of the claimed right, privilege, or defense before April 12, 2000.

ADDRESSES: The materials will be made available to the public at the National Archives at College Park research room, located at 8601 Adelphi Road, College Park, Maryland beginning at 8:45 a.m. on April 27, 2000. Researchers must have a NARA researcher card, which they may obtain when they arrive at the facility.

Petitions asserting a legal or constitutional right or privilege which would prevent or limit access must be sent to the Archivist of the United States, National Archives at College Park, 8601 Adelphi Road, College Park, Maryland 20740-6001.

FOR FURTHER INFORMATION CONTACT: Karl Weissenbach, Director, Nixon Presidential Materials Staff, 301-713-6950.

SUPPLEMENTARY INFORMATION: The integral file segments of textual materials to be opened on April 27, 2000, consist of 84 cubic feet.

The White House Central Files Unit is a permanent organization within the White House complex that maintains a central filing and retrieval system for the records of the President and his staff. Some of the materials are from the White House Central Files, Subject Files. The Subject Files are based on an alphanumerical file scheme of 61 primary categories. Listed below are the integral file segments from the White House Central Files, Subject Files in this opening.

Subject Category Volume: 5 Cubic Feet

Federal Government (FG)

FG 54 Courts of the District of Columbia

FG 55 United States Court of Claims

FG 65 Independent Agencies, Boards, and Commissions

FG 67 Advertising Council

FG 68 Advisory Board on National Parks, Historic Sites, Buildings, and Monuments

FG69 Advisory Commission on Intergovernmental Relations

One file group from the Staff Member and Office Files, listed below, will also be made available to the public. This consists of materials that were transferred to Central Files but were not incorporated into the Subject Files.

File Group: Charles B. “Bud” Wilkinson Volume: 26 Cubic Feet

Three files are from the White House Central Files, Name Files. The Name Files were used for routine materials filed alphabetically by the name of the correspondent; copies of documents in the Name Files are usually filed by subject in the Subject Files. The Name Files relating to the three individuals will be made available with this opening.

White House Central Files, Name Files: Volume: 1 Cubic Feet

Earl Landgrebe

Peter W. Rodino

John G. Schmitz

In accordance with the provisions of Executive Order 12958, several series within the National Security Council files have been systematically reviewed for declassification and will be made available. In addition, a number of documents which were previously withheld from public access have been re-reviewed for release and or declassified under the provisions of Executive Order 12958, or in accordance with 36 CFR 1275.56 (Public Access Regulations).

National Security Council Files series: Volume: 51 Cubic Feet

A number of documents which were previously withheld from public access have been reviewed and/ or declassified under the Mandatory Review provisions of Executive Order 12958 and will be made available.

Previously restricted materials Volume: 1 Cubic Feet

Public access to some of the items in the file segments listed in this notice will be restricted as outlined in 36 CFR 1275.50 or 1275.52 (Public Access Regulations).

Dated: March 1, 2000.
John W. Carlin,
Archivist of the United States.

[FR Doc. 00-5724 Filed 3-10-00; 8:45 am]

BILLING CODE 7515-01-P